DEPARTMENT OF LABOR

Employment and Training Administration

[TA-W-70,110]

Columbia Forest Products, Inc., Presque Isle Division, Including On-Site Leased Workers From Tempo, Presque Isle, Maine; Amended Revised Determination on Reconsideration

In accordance with Section 223 of the Trade Act of 1974, as amended (“Act”), 19 U.S.C. 2273, the Department of Labor issued a Notice of Revised Determination on Reconsideration on March 23, 2011, applicable to workers of Columbia Forest Products, Inc., Presque Isle Division, Presque Isle, Maine. The workers produce hardwood veneer. The notice was published in the Federal Register on April 7, 2011 (76 FR 19474).

At the request of the State agency, the Department reviewed the certification for workers of the subject firm. The company reports that workers leased from TEMPO were employed on-site at the Presque Isle, Maine location of Columbia Forest Products, Inc., Presque Isle Division. The Department has determined that these workers were sufficiently under the control of Columbia Forest Products, Inc., Presque Isle Division to be considered leased workers.

Based on these findings, the Department is amending this certification to include workers leased from TEMPO working on-site at the Presque Isle, Maine location of Columbia Forest Products, inc., Presque Isle Division.

The amended notice applicable to TA-W-70,110 is hereby issued as follows:

All workers of Columbia Forest Products, Inc., Presque Isle Division, including on-site leased workers from TEMPO, Presque Isle, Maine, who became totally or partially separated from employment on or after May 18, 2008, through March 23, 2013, and all workers in the group threatened with total or partial separation from employment on the date of certification through two years from the date of certification, are eligible to apply for adjustment assistance under Chapter 2 of Title II of the Trade Act of 1974, as amended.

Signed at Washington, DC this 19th day of April 2011.
Del Min Amy Chen,
Certifying Officer, Office of Trade Adjustment Assistance.

[FR Doc. 2011-10527 Filed 4-29-11; 8:45 am]

BILLING CODE 4510-FN-P